DEPARTMENT OF TRANSPORTATION

Federal Aviation Administration

14 CFR Part 97

[Docket No. 30259; Amdt. No. 2061]

Standard Instrument Approach Procedures; Miscellaneous Amendments

AGENCY: Federal Aviation Administration (FAA), DOT.

ACTION: Final rule.

SUMMARY: This amendment establishes, amends, suspends, or revokes Standard Instrument Approach Procedures (SIAPs) for operations at certain airports. These regulatory actions are needed because of the adoption of new or revised criteria, or because of changes occurring in the National Airspace System, such as the commissioning of new navigational facilities, addition of new obstacles, or changes in air traffic requirements. These changes are designed to provide safe and efficient use of the navigable airspace and to promote safe flight operations under instrument flight rules at the affected airports.

DATES: An effective date for each SIAP is specified in the amendatory provisions.

Incorporation by reference-approved by the Director of the Federal Register on December 31, 1980, and reapproved as of January 1, 1982.

ADDRESSES: Availability of matters incorporated by reference in the amendment is as follows:

For Examination—

1. FAA Rules Docket, FAA Headquarters Building, 800 Independence Avenue, SW., Washington, DC 20591;

2. The FAA Regional Office of the region in which the affected airport is located; or

3. The Flight Inspection Area Office which originated the SIAP.

For Purchase—Individual SIAP copies may be obtained from:

1. FAA Public Inquiry Center (APA-200), FAA Headquarters Building, 800 Independence Avenue, SW., Washington, DC 20591; or

2. The FAA Regional Office of the region in which the affected airport is located.

By Subscription—Copies of all SIAPs, mailed once every 2 weeks, are for sale by the Superintendent of Documents, U.S. Government Printing Office, Washington, DC 20402.

FOR FURTHER INFORMATION CONTACT: Donald P. Pate, Flight Procedure Standards Branch (AMCAFS-420), Flight Technologies and Programs Division, Flight Standards Service, Federal Aviation Administration, Mike Monroney Aeronautical Center, 6500 South MacArthur Blvd., Oklahoma City, OK. 73169 (Mail Address: P.O. Box 25082, Oklahoma City, OK 73125) telephone: (405) 954-4164.

SUPPLEMENTARY INFORMATION: This amendment to part 97 of the Federal Aviation Regulations (14 CFR part 97) establishes, amends, suspends, or revokes Standard Instrument Approach Procedures (SIAPs). The complete regulatory description of each SIAP is contained in official FAA form documents which are incorporated by reference in this amendment under 5 U.S.C. 552(a), 1 CFR part 51, and § 97.20 of the Federal Aviation Regulations (FAR). The applicable FAA Forms are identified as FAA Forms 8260-3, 8260-4, and 8260-5. Materials incorporated by reference are available for examination or purchase as stated above.

The large number of SIAPs, their complex nature, and the need for a special format make their verbatim publication in the Federal Register expensive and impractical. Further, airmen do not use the regulatory text of the SIAPs, but refer to their graphic depiction on charges printed by publishers of aeronautical materials. Thus, the advantages of incorporation by reference are realized and publication of the complete description of each SIAP contained in FAA form documents is unnecessary. The provisions of this amendment state the affected CFR (and FAR) sections, with the types and effective dates of the SIAPs. This amendment also identifies the airport, its location, the procedure identification and the amendment number.

The Rule

This amendment to part 97 is effective upon publication of each separate SIAP as contained in the transmittal. Some SIAP amendments may have been previously issued by the FAA in a National Flight Data Center (NFDC) Notice to Airmen (NOTAM) as an emergency action of immediate flight safety relating directly to published aeronautical charts. The circumstances which created the need for some SIAP amendments may require making them effective in less than 30 days. For the remaining SIAPs, an effective date at least 30 days after publication is provided.

Further, the SIAPs contained in this amendment are based on the criteria contained in the U.S. Standard for Terminal Instrument Procedures (TERPS). In developing these SIAPs, the TERPS criteria were applied to the conditions existing or anticipated at the affected airports. Because of the close and immediate relationship between these SIAPs and safety in air commerce, I find that notice and public procedure before adopting these SIAPs are impracticable and contrary to the public interest and, where applicable, that good cause exists for making some SIAPs effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Navigation (air).

Issued in Washington, DC on July 20, 2001.
Nicholas A. Sabatini,
Director, Flight Standards Service.

Adoption of the Amendment

Accordingly, pursuant to the authority delegated to me, part 97 of the Federal Aviation Regulations (14 CFR part 97) is amended by establishing, amending, suspending, or revoking Standard Instrument Approach Procedures, effective at 0901 UTC on the dates specified, as follows:

PART 97—STANDARD INSTRUMENT APPROACH PROCEDURES

1. The authority citation for part 97 is revised to read as follows:

Authority: 49 U.S.C. 106(g), 40103, 40113, 40120, 44701; and 14 CFR 11.49(b)(2).

2. Part 97 is amended to read as follows:

§§ 97.23, 97.25, 97.27, 97.29, 97.31, 97.33, 97.35 [Amended]

By amending: § 97.23 VOR, VOR/DME, VOR or TACAN, and VOR/DME or TACAN; § 97.25 LOC, LOC/DME, LDA, LDA/DME, SDF, SDF/DME; § 97.27 NDB, NDB/DME; § 97.29 ILS, ILS/DME, ISMLS, MLS, MLS/DME, MLS/RNAV; § 97.31 RADAR SIAPs; 97.33 RNAV SIAPs; and § 97.35 COPTER SIAPs, identified as follows:

* * * Effective August 9, 2001

Provo, UT, Provo Muni, OR,DME RWY 13, Orig

Provo, UT, Provo Muni, ILS Z RWY13, Orig

* * * Effective September 6, 2001

Ontario, CA, Ontario Intl, VOR/DME RWY 8L, Orig-A

Ontario, CA, Ontario Intl, VOR OR TACAN RWY 26R, Amdt 10A

Ontario, CA, Ontario Intl, NDB RWY 26L, Amdt 3A

Ontario, CA, Ontario Intl, NDB RWY 26R, Amdt 3

Ontario, CA, Ontario Intl, ILS, RNAV (GSP), RWY 8L 26R, Orig

Ontario, CA, Ontario Intl, RNAV (GPS) RWY 8R, Orig

Ontario, CA, Ontario Intl, RNAV (GPS) RWY 26R, Orig

Ontario, CA, Ontario Intl, RNAV (GPS) RWY 26L, Orig

Eagle, CO, Eagle County Regional, GPS-D, Orig, CANCELLED

Bridgeport, CT, Igor I. Sikorsky Memorial, VOR RWY 6, Amdt 21

Bridgeport, CT, Igor I. Sikorsky Memorial, VOR RWY 24, Amdt 16

Bridgeport, CT, Igor I. Sikorsky Memorial, VOR RWY 29, Amdt 2

Bridgeport, CT, Igor I. Sikorsky Memorial, ILS RWY 6, Amdt 9

Bridgeport, CT, Igor I. Sikorsky Memorial, RNAV (GPS) RWY 6 Orig

Bridgeport, CT, Igor I. Sikorsky Memorial, RNAV (GPS) RWY 24, Orig

Bridgeport, CT, Igor I. Sikorsky Memorial, RNAV (GPS) RWY 29, Orig

Bridgeport, CT, Igor I. Sikorsky Memorial, GPS RWY 29, Amdt 1A, CANCELLED

Morris, IL, Morris Muni-James R. Washburn Field, VOR-A, Orig

Morris, IL, Morris Muni-James R. Washburn Field, VOR OR GPS-A, AMDT 9a, CANCELLED.

Bloomington, IN, Monroe County, VOR RWY 6, Amdt 17

Bloomington, IN, Monroe County, VOR RWY 17, Amdt 12

Bloomington, IN, Monroe County, VOR RWY 24, Amdt 11

Bloomington, IN, Monroe County, VOR/DME RWY 35, Amdt 15

Bloomington, IN, Monroe County, NDB RWY 35, Amdt 5

Bloomington, IN, Monroe County, ILS RWY 35, Amdt 5

Bloomington, IN, Monroe County, RNAV (GPS) RWY 6, Orig

Bloomington, IN, Monroe County, RNAV (GPS) RWY 17, Orig

Bloomington, IN, Monroe County, RNAV (GPS) RWY 24, Orig

Bloomington, IN, Monroe County, RNAV (GPS) RWY 35, Orig

Bowling Green, KY Bowling Green—Warren County Regional, VOR/DME RWY 21, Amdt 8

Indian Head, MD, Maryland, RNAV (GPS) RWY 36, Orig

Charlotte, NC, Charlotte/Douglas Intl, VOR/DME RWY 18L, Amdt 6A

Fayetteville, NC, Fayetteville Regional/Grannis Field, VOR RWY 22, Amdt 5A

Fayetteville, NC, Fayetteville Regional/Grannis Field, NDB RWY 4, Amdt 15

Fayetteville, NC, Fayetteville Regional/Grannis Field, RNAV (GPS) RWY 4, Orig

Fayetteville, NC, Fayetteville Regional/Grannis Field, RNAV (GPS) RWY 22, Orig

Millington, TN, Millington Muni, ILS RWY 22, Amdt 2

Heber City, UT, Heber City Muni-Russ McDonald Field, RNAV (GPS)-A, Orig

Rutland, VT, Rutland State, VOR/DME RWY 1, Orig

Rutland, VT, Rutland State, VOR/DME RWY 19, Orig

Olympia, WA, Olympia, ILS RWY 17, Amdt 9

Renton, WA, Renton Muni, NDB RWY 15, Amdt 3

Renton, WA, Renton Muni, RNAV (GPS) RWY 15, Orig

Renton, WA, Renton Muni, GPS RWY 15, Orig-A, CANCELLED

Seattle, WA, Boeing Field/King County Intl, LOC/DME RWY 13R, Amdt 1

Seattle, WA, Boeing Field/King County Intl, ILS RWY 13R, Amdt 28

Seattle, WA, Boeing Field/King County Intl, ILS RWY 31L, Amdt 1

Seattle, WA, Seattle-Tacoma Intl, VOR RWY 16L/R, Amdt 13

Seattle, WA, Seattle-Tacoma Intl, VOR RWY 34L/R, Amdt 9

Seattle, WA, Seattle-Tacoma Intl, NDB RWY 16R, Amdt 1

Seattle, WA, Seattle-Tacoma Intl, NDB RWY 34R, Amdt 8

Seattle, WA, Seattle-Tacoma Intl, ILS RWY 34L, Orig

Seattle, WA, Seattle-Tacoma Intl, ILS RWY 16R, Amdt 12

Seattle, WA, Seattle-Tacoma Intl, ILS/DME RWY 34L, Amdt 1A, CANCELLED

Seattle, WA, Seattle-Tacoma Intl, ILS RWY 16L, Amdt 1

Seattle, WA, Seattle-Tacoma Intl, ILS RWY 34R, Orig

Seattle, WA, Seattle-Tacoma Intl, ILS/DME RWY 34R, Amdt 1, CANCELLED

Seattle, WA, Seattle-Tacoma Intl, RNAV (GPS) RWY 16R, Orig

Seattle, WA, Seattle-Tacoma Intl, RNAV (GPS) RWY 16L, Orig

Seattle, WA, Seattle-Tacoma Intl, RNAV (GPS) RWY 34L, Orig

Seattle, WA, Seattle-Tacoma Intl, RNAV (GPS) RWY 34R, Orig

Note: The following cancellation in Docket No. 30257, Amdt. No. 2059, to Part 97 of the Federal Aviation Administration Regulations (Federal Register Vol. 66, number 137, Rules and Regulations, pages 37134-37136, dated July 17, 2001) under § 97.33 effective September 6, 2001 is hereby rescinded:

Lincoln, NE, Lincoln Muni, GPS RWY 14, Orig-A (Cancelled).

[FR Doc. 01-18805 Filed 7-26-01; 8:45 am]

BILLING CODE 4910-13-M